DEPARTMENT OF DEFENSE

Department of the Navy

Notice of Availability of Record of Decision for the Final Environmental Impact Statement for the Keyport Range Complex Extension

AGENCY: Department of the Navy, DoD.

ACTION: Notice.

SUMMARY: The Department of the Navy (Navy), after carefully weighing the environmental consequences of the proposed action as presented in the Final Environmental Impact Statement (FEIS), announces its decision to extend the operational areas of the Naval Sea Systems Command Naval Undersea Warfare Center Keyport Range Complex and increase the number of days of activities and the number of activities per day, in furtherance of the Navy's statutory obligations under Title 10 of the United States Code governing the roles and responsibilities of the Navy. In its decision, the Navy considered applicable laws and executive orders, including an analysis of the effects of its actions in compliance with the Endangered Species Act, the Coastal Zone Management Act, and the National Historic Preservation Act, and the requirements of Executive Order (EO) 12898, Federal Actions to Address Environmental Justice in Minority Populations and Low Income Populations and EO 13045, Protection of Children from Environmental Health Risks and Safety Risks.

Implementation of the proposed action could begin immediately.

SUPPLEMENTARY INFORMATION: The complete text of the Navy's Record of Decision (ROD) is available for public viewing on the project Web site at: http://www.navsea.navy.mil/nuwc/keyport/Environmental/EIS.aspx along with copies of the FEIS and supporting documents. Single copies of the ROD will be made available upon request by contacting the FEIS Project Manager, Ms. Kimberly Kler, 360-396-0927.

Dated: July 13, 2011.
L.M. Senay,
Lieutenant, Judge Advocate General's Corps, U.S. Navy, Federal Register Liaison Officer.

[FR Doc. 2011-18232 Filed 7-19-11; 8:45 am]

BILLING CODE 3810-FF-P